DEPARTMENT OF TRANSPORTATION

Federal Aviation Administration

14 CFR Part 39

[Docket No. FAA-2017-0115; Directorate Identifier 2017-NE-04-AD; Amendment 39-18967; AD 2017-15-07]

RIN 2120-AA64

Airworthiness Directives; Safran Helicopter Engines, S.A., Turboshaft Engines

AGENCY: Federal Aviation Administration (FAA), DOT.

ACTION: Final rule; request for comments.

SUMMARY: We are superseding airworthiness directive (AD) 2017-04-51 for all Safran Helicopter Engines, S.A., Arriel 1A1, 1A2, 1B, 1C, 1C1, 1C2, 1D, 1D1, 1E2, 1K1, 1S, and 1S1 turboshaft engines. AD 2017-04-51 required inspecting, wrapping, and replacing the affected drain valve assembly (DV) installed on these Arriel 1 engines. This AD requires inspecting and wrapping affected DVs and replacing those DVs found to be defective. This AD eliminates the terminating action that existed under AD 2017-04-51 and reduces the population of affected parts. This AD was prompted by reports of additional fuel leaks originating from the DV on certain Arriel engines. We are issuing this AD to correct the unsafe condition on these products.

DATES: This AD is effective August 8, 2017.

The Director of the Federal Register approved the incorporation by reference of a certain publication listed in this AD as of August 8, 2017.

We must receive any comments on this AD by September 7, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Safran Helicopter Engines, S.A., 40220 Tarnos, France; phone: (33) 05 59 74 40 00; fax: (33) 05 59 74 45 15. You may view this service information at the FAA, Engine & Propeller Directorate, 1200 District Avenue, Burlington, MA 01803. For information on the availability of this material at the FAA, call 781-238-7125. It is also available on the Internet at http://www.regulations.gov by searching for and locating Docket No. FAA-2017-0115.

Examining the AD Docket

You may examine the AD docket on the Internet at http://www.regulations.gov by searching for and locating Docket No. FAA-2017-0115; or in person at the Docket Management Facility between 9 a.m. and 5 p.m., Monday through Friday, except Federal holidays. The AD docket contains this AD, the mandatory continuing airworthiness information, regulatory evaluation, any comments received, and other information. The address for the Docket Office (phone: 800-647-5527) is in the ADDRESSES section. Comments will be available in the AD docket shortly after receipt.

FOR FURTHER INFORMATION CONTACT: Robert Green, Aerospace Engineer, Engine Certification Office, FAA, Engine & Propeller Directorate, 1200 District Avenue, Burlington, MA 01803; phone: 781-238-7754; fax: 781-238-7199; email: robert.green@faa.gov.

SUPPLEMENTARY INFORMATION:

Comments Invited

This AD is a final rule that involves requirements affecting flight safety, and we did not provide you with notice and an opportunity to provide your comments before it becomes effective. However, we invite you to send any written data, views, or arguments about this AD. Send your comments to an address listed under the ADDRESSES section. Include “Docket No. FAA-2017-0115; Directorate Identifier 2017-NE-04-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Discussion

On March 8, 2017, we issued AD 2017-04-51, Amendment 39-18824 (82 FR 13753, March 15, 2017), for all Safran Helicopter Engines, S.A., Arriel 1A1, 1A2, 1B, 1C, 1C1, 1C2, 1D, 1D1, 1E2, 1K1, 1S, and 1S1 turboshaft engines. AD 2017-04-51 resulted from reports of fuel leaks originating from the DV on certain Arriel engines. We issued AD 2017-04-51 to prevent an engine compartment fire, in-flight shutdown, and damage to the helicopter.

Actions Since AD 2017-04-51 Was Issued

Since we issued AD 2017-04-51, we received reports of additional fuel leaks on DVs with compliant diaphragm hole positions. Also since we issued AD 2017-04-51, the European Aviation Safety Agency (EASA) has issued AD 2017-0064R1, dated June 27, 2017, which requires initial and repetitive inspections and replacement of any DVs that do not pass inspection.

Related Service Information Under 1 CFR Part 51

We reviewed Safran Helicopter Engines Alert Mandatory Service Bulletin (MSB) No. A292 73 0853, Version A, dated April 7, 2017. The Alert MSB describes procedures for inspecting, wrapping, and replacing the DV. This service information is available by the means identified in the ADDRESSES section.

FAA's Determination

We are issuing this AD because we evaluated all the relevant information and determined the unsafe condition described previously is likely to exist or develop in other products of the same type design.

AD Requirements

This AD requires inspecting and wrapping affected DVs and replacing those DVs found to be defective. This AD requires operators to continue to perform repetitive inspections even if the defective DV is replaced with an affected DV that is eligible for installation.

FAA's Justification and Determination of the Effective Date

An unsafe condition exists that requires the immediate adoption of this AD. The FAA has found that the risk to the flying public justifies waiving notice and comment prior to adoption of this rule because the compliance requirements are within 10 flight hours or 7 days. Therefore, we find that notice and opportunity for prior public comment are impracticable and that good cause exists for making this amendment effective in less than 30 days.

Costs of Compliance

We estimate that this AD affects 200 engines installed on helicopters of U.S. registry.

We estimate the following costs to comply with this AD:

Estimated Costs
Action | Labor cost | Parts cost | Cost per product | Cost on U.S. operators
Inspecting, wrapping, and replacing the DV | 4.5 work-hours × $85 per hour = $382.50 | $70 | $452.50 | $90,500

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2017-04-51, Amendment 39-18824 (82 FR 13753, March 15, 2017), and adding the following new AD:

2017-15-07 Safran Helicopter Engines, S.A.: Amendment 39-18967; Docket No. FAA-2017-0115; Directorate Identifier 2017-NE-04-AD.

(a) Effective Date

This AD is effective August 8, 2017.

(b) Affected ADs

This AD replaces AD 2017-04-51, Amendment 39-18824 (82 FR 13753, March 15, 2017).

(c) Applicability

This AD applies to all Safran Helicopter Engines, S.A., Arriel 1A1, 1A2, 1B, 1C, 1C1, 1C2, 1D, 1D1, 1E2, 1K1, 1S, and 1S1 turboshaft engines equipped with a drain valve assembly (DV) manufactured, repaired, or overhauled after December 31, 2015; with a diaphragm, part number 9 164 95 002 0, installed.

(d) Subject

Joint Aircraft System Component (JASC) Code 7321, Fuel Control/Turbine Engines.

(e) Unsafe Condition

This AD was prompted by reports of fuel leaks originating from the DV on certain Arriel engines. We are issuing this AD to prevent an engine compartment fire, in-flight shutdown, and damage to the helicopter.

(f) Compliance

Comply with this AD within the compliance times specified, unless already done.

(1) Within 10 flight hours or 7 days, whichever occurs first, after the effective date of this AD, visually inspect the affected DV for fuel leakage:

(i) If a fuel leak is detected, replace the affected DV with a DV eligible for installation, before the next flight.

(ii) If no fuel leak is detected, before the next flight, wrap the affected DV with a self-amalgamate tape or heat shrinkable tubing using the Accomplishment Instructions, paragraph 2.4, in Safran Helicopter Engines Alert Mandatory Service Bulletin (MSB) No. A292 73 0853, Version A, dated April 7, 2017.

(2) After wrapping an affected DV, as specified in paragraph (f)(1) of this AD, inspect the DV for fuel leakage before each first flight of the day. If a fuel leak is detected, replace the affected DV with a DV eligible for installation before the next flight.

(3) If, during any inspection required by this AD, the wrapping is found defective (loose, missing, or damaged), before the next flight, remove the wrap and re-wrap the affected DV using the Accomplishment Instructions, paragraph 2.4, of Safran Helicopter Engines Alert MSB No. A292 73 0853, Version A, dated April 7, 2017.

(4) If you replace the affected DV with another affected DV eligible for installation, you must still continue to perform the repetitive inspections required by paragraph (f)(2) of this AD.

(g) Installation Prohibition

From the effective date of this AD, do not install any engine with an affected DV on any helicopter unless the DV has been wrapped and is leak-free in accordance with the instructions in paragraph 2.4 of Safran Helicopter Engines Alert MSB No. A292 73 0853, Version A, dated April 7, 2017.

(h) Definition

For the purpose of this AD, a DV eligible for installation is:

(1) A DV that is not affected by this AD; or

(2) a DV that is affected by this AD, is leak-free, and is wrapped in accordance with the Accomplishment Instructions, paragraph 2.4, of Safran Helicopter Engines Alert MSB No. A292 73 0853, Version A, dated April 7, 2017.

(i) Credit for Previous Actions

You may take credit for the initial inspection and corrective actions (including wrapping of a DV) accomplished before the effective date of this AD using the Accomplishment Instructions, paragraph 2, of Safran Helicopter Engines Alert MSB No. A292 73 0851, Version A, dated January 31, 2017.

(j) Alternative Methods of Compliance (AMOCs)

(1) The Manager, Engine Certification Office, may approve AMOCs for this AD. Use the procedures found in 14 CFR 39.19 to make your request. You may email your request to: ANE-AD-AMOC@faa.gov.

(2) Before using any approved AMOC, notify your appropriate principal inspector, or lacking a principal inspector, the manager of the local flight standards district office/certificate holding district office.

(k) Related Information

(1) For further information about this AD, contact: Robert Green, Aerospace Engineer, Engine Certification Office, FAA, Engine & Propeller Directorate, 1200 District Avenue, Burlington, MA 01803; phone: 781-238-7754; fax: 781-238-7199; email: robert.green@faa.gov.

(2) Refer to MCAI European Aviation Safety Agency AD No. 2017-0064R1, dated June 27, 2017, for more information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Safran Helicopter Engines Alert Mandatory Service Bulletin No. A292 73 0853, Version A, dated April 7, 2017.

(ii) Reserved.

(3) For Safran Helicopter Engines service information identified in this AD, contact Safran Helicopter Engines, S.A., 40220 Tarnos, France; phone: (33) 05 59 74 40 00; fax: (33) 05 59 74 45 15.

(4) You may view this service information at FAA, Engine & Propeller Directorate, 1200 District Avenue, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on July 13, 2017.
Robert J. Ganley,
Acting Manager, Engine & Propeller Directorate, Aircraft Certification Service.

[FR Doc. 2017-15434 Filed 7-21-17; 8:45 am]

BILLING CODE 4910-13-P